DEPARTMENT OF TRANSPORTATION

Federal Motor Carrier Safety Administration

Qualification of Drivers; Exemption Applications; Vision

AGENCY: Federal Motor Carrier Safety Administration (FMCSA), DOT.

ACTION: Notice of denials.

SUMMARY: The FMCSA announces its denial of 51 applications from individuals who requested an exemption from the Federal vision standard applicable to interstate truck drivers and the reasons for the denials. The FMCSA has statutory authority to exempt individuals from the vision standard if the exemptions granted will not compromise safety. The agency has concluded that granting these exemptions does not provide a level of safety that will equal or exceed the level of safety maintained without the exemptions for these commercial motor vehicle drivers.

FOR FURTHER INFORMATION CONTACT: Ms. Teresa Doggett, Office of Bus and Truck Standards and Operations, (MC-PSD), (202) 366-4001, Department of Transportation, FMCSA, 400 Seventh Street, SW., Washington, DC 20590-0001. Office hours are from 7:45 a.m. to 4:15 p.m., e.s.t., Monday through Friday, except Federal holidays.

SUPPLEMENTARY INFORMATION:

Background

Under 49 U.S.C. 31315 and 31136(e), FMCSA may grant an exemption from the Federal vision standard for a renewable two year period if it finds such an exemption would likely achieve a level of safety that is equivalent to, or greater than, the level that would be achieved absent such an exemption (49 CFR 381.305(a)).

Accordingly, FMCSA evaluated 51 individual exemption requests on their merits and made a determination that these applicants do not satisfy the criteria established to demonstrate that granting an exemption is likely to achieve an equal or greater level of safety than exists without the exemption. Each applicant has, prior to this notice, received a letter of final disposition on his/her individual exemption request. Those decision letters fully outlined the basis for the denial and constitute final agency action. The list published today summarizes the agency's recent denials as required under 49 U.S.C. 31315(b)(4) by periodically publishing names and reason for denials.

The following 28 applicants lacked sufficient recent driving experience over three years:

Behrer, Ed

Boven, Scott H.

Bradford, Johnny W.

Briones, Joe C.

Cupples, Geoffrey

Dean, Joseph A.

Decker, Karl

Fix, James E.

Fogle, Stephen B.

Grey, Walter M.

Gysberg, Rocky D.

Holt, Jeffrey L.

Lovejoy, Michael J.

McDade, Matthew

Mena, Jaime E.

Miller, Odis G.

Perkins, Kenneth D.

Peters, Karl

Remsburg, III, Albert L.

Roy, Paul R.

Schmitt, James L.

Siano, Jr., Peter

Slinde, Jay A.

Smith, Wayne M.

Stanley, John W.

Thompson, Jr., Ned

Wheeler, Greg

Williams, Dennis J.

Three applicants, Mr. Cory W. C. Thaine, Mr. Edward Tripp, Jr., and Mr. Danny R. Wood, do not have experience operating a commercial motor vehicle (CMV) and therefore presented no evidence from which FMCSA can conclude that granting the exemption is likely to achieve a level of safety equal to that existing without the exemption.

The following five applicants do not have three years of experience driving a CMV on public highways with the vision deficiency:

Fultz, Ronald K.

Hilliker, Jason D.

Jackman, Steven R.

Watkins, Sr., William A.

Worley, Billy

Three applicants, Mr. George H. Blakey, Mr. Curtis A. Boyster, and Mr. Terry J. Edwards, do not have three years of recent experience driving a CMV with the vision deficiency.

Two applicants, Mr. Thomas G. Carpenter and Mr. Donald L. Scoville, meet the vision requirements of 49 CFR 391.41(b)(10) and do not need a vision exemption.

One applicant, Mr. Bruce A. Homan, was charged with a moving violation in conjunction with a CMV crash, which is a disqualifying offense.

The following four applicants had their commercial driver's license suspended during the three year period, in relation to a moving violation. Applicants do not qualify for an exemption with a suspension during the three year review period.

Barnett, Jamenson L.

Bone, Stephen M.

Ross, James C.

Wise, Gregory

The following three applicants, Mr. William J. Cunningham, Mr. Robert A. Miller, and Mr. Lasaro R. Salgado, contributed to a crash while operating a CMV, which is a disqualifying offense.

One applicant, Mr. Ruben Duron, did not hold a license that allowed operation of vehicles over 10,000 pounds for all or part of the three year period.

One applicant, Mr. Gilbert L. Martinez, does not meet the vision standard in the better eye.

Issued on: August 16, 2004.
Rose A. McMurray,
Associate Administrator for Policy and Program Development.

[FR Doc. 04-19807 Filed 8-30-04; 8:45 am]

BILLING CODE 4910-EX-P